DEPARTMENT OF COMMERCE

Foreign-Trade Zones Board

[B-04-2015]

Foreign-Trade Zone (FTZ) 26—Atlanta, Georgia; Authorization of Production Activity; Mizuno USA, Inc. (Golf Clubs), Braselton, Georgia

On January 15, 2015, Georgia Foreign-Trade Zone, Inc., grantee of FTZ 26, submitted a notification of proposed production activity to the Foreign-Trade Zones (FTZ) Board on behalf of Mizuno USA, Inc., within Site 31 of FTZ 26, in Braselton, Georgia.

The notification was processed in accordance with the regulations of the FTZ Board (15 CFR part 400), including notice in the Federal Register inviting public comment (80 FR 5507, 02-02-2015). The FTZ Board has determined that no further review of the activity is warranted at this time. The production activity described in the notification is authorized, subject to the FTZ Act and the Board's regulations, including Section 400.14.

Dated: May 15, 2015.
Andrew McGilvray,
Executive Secretary.

[FR Doc. 2015-12550 Filed 5-21-15; 8:45 am]

BILLING CODE 3510-DS-P